DEPARTMENT OF HEALTH AND HUMAN SERVICES

Centers for Disease Control and Prevention

[60Day-00-39]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne E. O'Connor, CDC Assistant Reports Clearance Officer, 1600 Clifton Road, MS-D24, Atlanta, GA 30333. Written comments should be received within 60 days of this notice.

Proposed Project

Hearing Loss Intervention for Carpenters—New—The mission of the National Institute for Occupational Safety and Health (NIOSH) is to promote safety and health at work for all people through research and prevention. Using Health Belief/ Promotion models and stages of change theory (Prochaska's Transtheoretical Model), NIOSH has collaborated with the United Brotherhood of Carpenters (UBC) to develop a comprehensive hearing loss prevention program targeted specifically for carpenter apprentices. This program is scheduled for implementation and evaluation in a large apprentice training center during 2001. As part of the impact and evaluation component of this project, a 31-question survey will be administered to assess carpenter apprentices' hearing health attitudes, beliefs, and behavioral intentions before and after they receive the training program and at a one-year follow-up interval. The survey was developed and validated by NIOSH in collaboration with university partners and the UBC. Initially, survey data will be gathered from 300 apprentices participating in baseline testing—200 at the experimental site and 100 at the control site. This will be followed by a re-survey of the 200 apprentices at the experimental site after they have received the enhanced educational elements of the hearing loss prevention program. Finally, all 300 apprentices will participate in a re-survey one year later to assess the lasting effects of the training. Data collected in this investigation will enable NIOSH to better evaluate the effectiveness of the hearing loss prevention program in educating and motivating these workers to actively protect their hearing well before they suffer permanent noise-induced hearing loss.

There are no costs to respondents.

Respondents (apprentices) | No. of respondents | No. of responses/respondent | Avg. burden per response (in hrs) | Total burden (in hrs)
Baseline | 300 | 1 | .25 | 75
Post Training | 200 | 1 | .25 | 50
One-year Follow-up | 300 | 1 | .25 | 75
Totals |  |  |  | 200

Dated: June 5, 2000.
Nancy Cheal,
Acting Associate Director for Policy, Planning, and Evaluation, Centers for Disease Control and Prevention (CDC).

[FR Doc. 00-14584 Filed 6-8-00; 8:45 am]

BILLING CODE 4163-18-P